DEPARTMENT OF COMMERCE

National Oceanic and Atmospheric Administration

RIN 0648-XC125

Caribbean Fishery Management Council; Advisory Panel Meeting

AGENCY: National Marine Fisheries Service (NMFS), National Oceanic and Atmospheric Administration (NOAA), Commerce.

ACTION: Notice of a public meeting.

SUMMARY: The Caribbean Fishery Management Council's Advisory Panel will hold a meeting.

DATES: The meeting will be held on August 9, 2012, from 9:30 a.m. to 5 p.m.

ADDRESSES: The meeting will be held at the Windward Passage Hotel, Veteran's Drive Water Front, Charlotte Amalie, St. Thomas, USVI.

FOR FURTHER INFORMATION CONTACT: Caribbean Fishery Management Council, 268 Muñoz Rivera Avenue, Suite 1108, San Juan, Puerto Rico 00918-1920, telephone: (787) 766-5926.

SUPPLEMENTARY INFORMATION: The Caribbean Fishery Management Council's Advisory Panel will hold a meeting to discuss the items contained in the following agenda:

• Call to Order

• Adoption of Agenda

• Proposed Management Measures for Seagrassess and Parrotfishes

• Scoping Process for Island-Specific Fishery Management Plan

• Other Business

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

This meeting is physically accessible to people with disabilities. For more information or request for sign language interpretation and/other auxiliary aids, please contact Mr. Miguel A. Rolón, Executive Director, Caribbean Fishery Management Council, 268 Muñoz Rivera Avenue, Suite 1108, San Juan, Puerto Rico 00918-1920, telephone: (787) 766-5926, at least 5 days prior to the meeting date.

Dated: July 20, 2012.
Tracey L. Thompson,
Acting Deputy Director, Office of Sustainable Fisheries, National Marine Fisheries Service.

[FR Doc. 2012-18140 Filed 7-24-12; 8:45 am]

BILLING CODE 3510-22-P